FEDERAL COMMUNICATIONS COMMISSION

[Report No. 2682]

Petitions for Reconsideration of Action in Rulemaking Proceedings

November 17, 2004.

Petitions for Reconsideration have been filed in the Commission's Rulemaking proceedings listed in this Public Notice and published pursuant to 47 CFR 1.429(e). The full text of this document is available for viewing and copying in Room CY-B402, 445 12th Street, SW., Washington, DC or may be purchased from the Commission's copy contractor, Best Copy and Printing, Inc. (BCPI) (1-800-378-3160). Oppositions to these petitions must be filed by December 17, 2004. See section 1.4(b)(1) of the Commission's rules (47 CFR 1.4(b)(1)). Replies to an opposition must be filed within 10 days after the time for filing oppositions have expired.

Subject: In the Matter of Table of Allotments, FM Broadcast Stations (Gunnison, Crawford, and Olathe, Breckenridge, Eagle, Fort Morgan, Greenwood Village, Loveland, and Strasburg, Colorado, and Laramie, Wyoming) (MB Docket No. 03-144).

Number of Petitions Filed: 2.

Subject: In the Matter of Mitigation of Orbital Debris (IB Docket No. 02-54).

Number of Petitions Filed: 2.

Marlene H. Dortch,
Secretary.

[FR Doc. 04-26554 Filed 12-1-04; 8:45 am]

BILLING CODE 6712-01-M